DEPARTMENT OF TRANSPORTATION

Federal Aviation Administration

Public Notice for Waiver of Aeronautical Land-use Assurance, St. Louis Regional Airport, East Alton, IL

AGENCY: Federal Aviation Administration, DOT.

ACTION: Notice of intent of waiver with respect to land.

SUMMARY: The Federal Aviation Administration (FAA) is considering a proposal to change a portion of airport land from aeronautical use to non-aeronautical use and to authorize the sale of the airport property. The proposal consists of the sale of Parcel I-54A (a O.023-acre portion of Parcel I—54, also known as Lot 43 in Wayside Estates), Parcel I-56A (a 0.038-acre portion of Parcel I-56, also known as Lot 42 in Wayside Estates), Parcel I-58A (a 0.036-acre portion of Parcel I-58, also known as Lot 41 in Wayside Estates), Parcel I-99A (a 0.0370-acre portion of Parcel I-99, also known as Lot 40 in Wayside Estates), Parcel I-101A (a 0.036-acre portion of Parcel I-101, also known as Lot 39 in Wayside Estates), and Parcel I-103A (a 0.049-acre portion of Parcel I-103, also known as Lot 38 in Wayside Estates). Presently the land is vacant and used for control of FAR Part 77 surfaces and for land use and noise compatibility purposes and is not needed for appropriate use, as shown on the Airport Layout Plan. Parcel I-54 (0.293 acre, more or less) was acquired in 1996 with Federal participation under AIP grant 3-17-SBGP-12. Parcel I-56 (0.311 acre, more or less) was acquired in 1996 with Federal participation under AIP grant 3-17-SBGP-13. Parcel I-58 (0.285 acre, more or less) was acquired in 1996 with Federal participation under AIP grant 3-17-SBGP-10. Parcel I-99 (0.227 acre, more or less) was acquired in 1997 with Federal participation under AIP-grant 3-17-SBGP-16. Parcel I-101 (0.252 acre, more or less) was acquired in 1998 with Federal participation under AIP grant 3-17-SBGP-20. Parcel I-103 (0.254 acre, more or less) was acquired in 1997 with Federal participation under AIP grant 3-17-SBGP-20. It is the intent of the St. Louis Regional Airport Authority (SLRAA) to sell Parcels I-54A, I-56A, I-58A, I-99A, I-101A and I-103A in fee. This notice announces that the FAA intends to authorize the disposal of the subject airport property at St. Louis Regional Airport, East Alton, IL. Approval does not constitute a commitment by the FAA to financially assist in disposal of the subject airport property nor a determination that all measures covered by the program are eligible for grant-in-aid funding from the FAA. The disposition of proceeds from the disposal of the airport property will be in accordance with FAA Order 5100.38B “Airport Improvement Program Handbook.”

In accordance with section 47107(h) of Title 49, United States Code, this notice is required to be published in the Federal Register 30 days before modifying the land-use assurance that requires the property to be used for an aeronautical purpose.

DATES: Comments must be received on or before September 13, 2002.

FOR FURTHER INFORMATION CONTACT: Richard Pur, Program Manager, 2300 East Devon Avenue, Des Plaines, IL, 60018. Telephone Number 847-294-7527/FAX Number 847-294-7046. Documents reflecting this FAA action may be reviewed at this same location by appointment or at the St. Louis Regional Airport Authority, St. Louis Regional Airport, 8 Terminal Drive, East Alton, IL 62024.

SUPPLEMENTARY INFORMATION: The following legal description of the proposed land sale is:

Parcel I-54A

That part of Lot 43 in Wayside Estates, a subdivision of part of the East Half of Section 11, Township 5 North, Range 9 West of the Third Principal Meridian in Madison County, Illinois, according to the plat thereof recorded in Plat Book 32, Page 83, described as follows:

Beginning at the northwest corner of said Lot 43; thence on an assumed bearing of North 79 degrees 02 minutes 13 seconds East, 21.18 feet on the north line of said Lot 43; thence South 01 degree 34 minutes 36 seconds East, 16.91 feet; thence South 11 degrees 36 minutes 36 seconds West, 41.52 feet to the south line of said Lot 43; thence North 58 degrees 27 minutes 11 seconds West, 12.09 feet on said south line to the southwest corner of said Lot 43; thence North 00 degrees 56 minutes 11 seconds West, 52.59 feet (52.56 feet recorded) on the west line of said Lot 43 to the Point of Beginning.

Said parcel herein described contains 0.023 acre, more or less.

Parcel I-56A

That part of Lot 42 in Wayside Estates, a subdivision of part of the East half of Section 11, Township 5 North, Range 9 West of the Third Principal Meridian in Madison County, Illinois, according to the plat thereof recorded in Plat Book 32, Page 83, described as follows:

Beginning at the northwest corner of said Lot 42, thence on an assumed bearing of North 79 degrees 01 minute 48 seconds East, 20.27 feet on the north line of said Lot 42: thence South 01 degree 34 minutes 36 seconds East, 81.05 feet to the south line of said Lot 42; thence South 79 degrees 02 minutes 13 seconds West, 21.18 feet on said south line to the southwest corner of said Lot 42; thence North 00 degrees 56 minutes 11 seconds West, 81.20 feet (81.15 feet recorded) on said west line to the Point of Beginning.

Said parcel herein described contains 0.038 acre, more or less.

Parcel I-58A

That part of Lot 41 in Wayside Estates, a subdivision of part of the East Half of Section 11, Township 5 North, Range 9 West of the Third Principal Meridian in Madison County, Illinois, according to the plat thereof recorded in Plat Book 32, Page 83, described as follows:

Beginning at the northwest corner of said Lot 41; thence on an assumed bearing of North 79 degrees 01 minute 59 seconds East, 19.35 feet on the north line of said Lot 41; thence South 01 degree 34 minutes 36 seconds East, 81.07 feet to the south line of said Lot 41; thence South 79 degrees 01 minute 48 seconds West, 20.27 feet on said south line to the southwest corner of said Lot 41; thence North 00 degrees 56 minutes 11 seconds West, 81.23 feet (81.18 feet recorded) on the west line of said Lot 41 to the Point of Beginning.

Said parcel herein described contains 0.036 acre, more or less.

Parcel I-99A

That part of Lot 40 in Wayside Estates, a subdivision of part of the East Half of Section 11, Township 5 North, Range 9 West of the Third Principal Meridian in Madison County, Illinois, according to the plat thereof recorded in Plat Book 32, Page 83, described as follows:

Beginning at the northwest corner of said Lot 40, thence on an assumed bearing of North 81 degrees 53 minutes 26 seconds East, 18.22 feet on the north line of said Lot 40; thence South 01 degree 34 minutes 36 seconds East, 86.92 feet to the south line of said Lot 40; thence South 79 degrees 01 minute 59 seconds West, 19.35 feet on said south line to the southwest corner of said Lot 40; thence North 00 degrees 56 minutes 11 seconds West, 88.01 feet (87.95 feet recorded) on the west line of said Lot 40 to the Point of beginning.

Said parcel herein contains 0.037 acre, more or less.

Parcel I-101A

That part of Lot 39 in Wayside Estates, a subdivision of part of the East Half of Section 11, Township 5 North, Range 9 West of the Third Principal Meridian in Madison County, Illinois, according to the plat thereof recorded in Plat Book 32, Page 83, described as follows:

Beginning at the northwest corner of said Lot 39; thence on an assumed bearing on North 85 degrees 58 minutes 11 seconds East, 17.12 feet on the north line of said Lot 39; thence South 01 degree 34 minutes 36 seconds East, 88.26 feet to the south line of said Lot 39; thence South 81 degrees 53 minutes 26 seconds West, 18.22 feet on said south line to the southwest corner of said Lot 39; thence North 00 degrees 56 minutes 11 seconds West, 89.61 feet (89.55 feet recorded) on the west line of said Lot 39 to the Point of Beginning.

Said parcel herein described contains 0.036 acre, more or less.

Parcel I-103A

That part of Lot 38 in Wayside Estates, a subdivision of part of the East Half of Section 11, Township 5 North, Range 9 West of the Third Principal Meridian in Madison County, Illinois, according to the plat thereof recorded in Plat Book 32, Page 83, described as follows:

Beginning at the northwest corner of said Lot 38; thence on an assumed bearing of South 86 degrees 20 minutes 45 seconds East, 30.89 feet on the north line of said Lot 38; thence South 09 degrees 51 minutes 07 seconds West, 74.38 feet; thence South 01 degree 34 minutes 36 seconds East, 20.33 feet to the south line of said Lot 38; thence South 85 degrees 58 minutes 11 seconds West, 17.12 feet on said south line to the southwest corner of said Lot 38; thence North 00 degrees 56 minutes 11 seconds West, 96.79 feet (96.73 feet recorded) on the west line of said Lot 38 to the Point of Beginning.

Said parcel herein described contains 0.049 acre, more or less.

This legal description does not represent a boundary survey and is based on a suggested land description provided by the Illinois Department of Transportation.

Issued in Des Plaines, Illinois on July 19, 2002.
Philip M. Smithmeyer,
Manager, Chicago Airports District Office, FAA, Great Lakes Region.

[FR Doc. 02-20640 Filed 8-13-02; 8:45 am]

BILLING CODE 4910-13-M